DEPARTMENT OF HEALTH AND HUMAN SERVICES

Centers for Disease Control and Prevention

Disease, Disability, and Injury Prevention and Control Special Emphasis Panel (SEP): Initial Review

The meeting announced below concerns Detection and Characterization of Emerging Vector-Borne Zoonotic Pathogens in Indonesia, CK15-001; Sentinel Enhanced Dengue Surveillance System (SEDSS) Sites to Evaluate the Epidemiology and Prevention of Dengue and other Acute Febrile Illnesses in Puerto Rico, CK15-002, and Capacity Building to Prevent, Detect, and Respond to Emerging Infectious Disease Threats and Strengthen Global Health Security in Uganda, CK15-003, Funding Opportunity Announcement (FOA), initial review.

In accordance with Section 10(a)(2) of the Federal Advisory Committee Act (Pub. L. 92-463), the Centers for Disease Control and Prevention (CDC) announces the aforementioned meeting:

Time And Date: 11:00 a.m.-3:00 p.m., April 21, 2015 (Closed).

Place: Teleconference.

Status: The meeting will be closed to the public in accordance with provisions set forth in Section 552b(c) (4) and (6), Title 5 U.S.C., and the Determination of the Director, Management Analysis and Services Office, CDC, pursuant to Public Law 92-463.

Matters For Discussion: The meeting will include the initial review, discussion, and evaluation of applications received in response to “Detection and Characterization of Emerging Vector-Borne Zoonotic Pathogens in Indonesia”, FOA CK15-001 and “Sentinel Enhanced Dengue Surveillance System (SEDSS) Sites to Evaluate the Epidemiology and Prevention of Dengue and other Acute Febrile Illnesses in Puerto Rico”, FOA CK15-002, and “Capacity Building to Prevent, Detect, and Respond to Emerging Infectious Disease Threats and Strengthen Global Health Security in Uganda”, FOA CK15-003.

Contact Person For More Information: Gregory Anderson, M.S., M.P.H., Scientific Review Officer, CDC, 1600 Clifton Road NE., Mailstop E60, Atlanta, Georgia 30333, Telephone: (404) 718-8833

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2015-06652 Filed 3-23-15; 8:45 am]

BILLING CODE 4163-18-P